DEPARTMENT OF THE INTERIOR

Fish and Wildlife Service

[FWS-HQ-MB-2019-N010; FXGO1664091HCC0-FF09D00000-189]

North American Wetlands Conservation Council; Call for Nominations

AGENCY: Fish and Wildlife Service, Interior.

ACTION: Call for nominations.

SUMMARY: The Secretary of the Interior seeks nominations for individuals to be considered to fill one vacancy to serve as an ex officio non-voting representative on the North American Wetlands Conservation Council (Council). The Council operates under statutory procedures established under the North American Wetlands Conservation Act. Council members review and recommend grant funding for wetland protection and restoration projects in the United States, Canada, and Mexico. The Council provides recommendations to the Migratory Bird Conservation Commission, which provides final funding approval for these projects.

DATES: Written nominations must be postmarked by April 29, 2019.

ADDRESSES: Please address and submit your nomination letters via U.S. mail or hand delivery to Mr. Jerome Ford, Assistant Director-Migratory Birds; North American Wetlands Conservation Council; U.S. Fish and Wildlife Service; 5275 Leesburg Pike, MS:MB; Falls Church, VA 22041-3803.

FOR FURTHER INFORMATION CONTACT: Kari Duncan by email (preferred) at kari_duncan@fws.gov, by telephone at 703-358-1784, by U.S. mail at the address in ADDRESSES, or via the Federal Relay Service at 1-800-877-8339.

SUPPLEMENTARY INFORMATION:

Background

In accordance with the North American Wetlands Conservation Act (16 U.S.C. 4401 et seq.; NAWCA), the State-private-Federal North American Wetlands Conservation Council (Council) meets to consider wetland acquisition, restoration, enhancement, and management projects for recommendation to, and final funding approval by, the Migratory Bird Conservation Commission. NAWCA provides matching grants to organizations and individuals who have developed partnerships to carry out wetlands conservation projects in the United States, Canada, and Mexico. These projects must involve long-term protection, restoration, and/or enhancement of wetlands and associated uplands habitats for the benefit of all wetlands-associated migratory birds.

The Secretary of the Interior (Secretary) seeks nominations for individuals to be considered to fill one vacancy to serve as an ex officio non-voting representative on the Council, which operates under statutory procedures established under NAWCA. The program has two cycles per year, and eligible proposals are reviewed and ranked by the Council each cycle. For more information about the Council, visit the following website: https://www.fws.gov/birds/grants/north-american-wetland-conservation-act/north-american-wetland-conservation-council.php.

Council Makeup

Per 16 U.S.C. 4403, the Council consists of nine voting members (two permanent and seven appointed members), an alternate member, and ex officio members. The two permanent members are the Director of the U.S. Fish and Wildlife Service and the Secretary of the Board of the National Fish and Wildlife Foundation. The Secretary appoints all non-permanent members to the Council to 3-year staggered terms. Four Council members are to be directors of State fish and wildlife agencies representing the four migratory bird flyways, and three members are to represent different nonprofit organizations actively participating in wetland and migratory bird conservation activities. The alternate member, knowledgeable and experienced in matters relating to fish, wildlife, and wetlands conservation, performs the duties of a Council member in the event of a vacancy or absence. The Secretary is authorized and encouraged to include ex officio nonvoting members representing Canada, Mexico, other Federal agencies, nonprofit charitable organizations, and tribal organizations. In the event that an appointment lapses, members continue to serve until reappointed or replaced.

Nomination Method and Eligibility

Per 16 U.S.C. 4403(c), The Secretary is authorized and encouraged to include as ex officio non-voting members of the Council representatives of: Federal, provincial, territorial, or State government agencies of Canada and Mexico; the Environmental Protection Agency and other appropriate Federal agencies, in addition to the United States Fish and Wildlife Service; and nonprofit charitable organizations and Native American interests, including tribal organizations. Individuals must be participating actively in one or more wetlands conservation projects under NAWCA, the North American Waterfowl Management Plan, or the Tripartite Agreement. The ex officio member will be appointed to a three-year term that will expire on March 31, 2022.

Nominations should include a resume that provides contact information and a description of the nominee's qualifications that would enable the Department of the Interior to make an informed decision regarding the candidate's suitability to serve on the Council.

Dated: April 2, 2019.
James W. Kurth,
Deputy Director, U.S. Fish and Wildlife Service.

[FR Doc. 2019-06827 Filed 4-5-19; 8:45 am]

BILLING CODE 4333-15-P